DEPARTMENT OF COMMERCE

National Oceanic and Atmospheric Administration

[I.D. 070104C]

Proposed Information Collection; Comment Request; Local Fisheries Knowledge Schools Pilot Project

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 7, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Susan Abbott-Jamieson, NMFS ST5, 1315 East-West Hwy, Silver Spring, MD 20910.

SUPPLEMENTARY INFORMATION:

I. Abstract

The data will be collected in two Maine high schools that are participating in a local fisheries knowledge oral history pilot project. This information is needed to evaluate the project. The respondents will be all the students in both schools who participate in the project, and a matched sample of students in each schools who do not participate in the project.

II. Method of Collection

Students will complete a paper questionnaire administered in their classroom by a teacher. The completed questionnaires will be mailed back to NMFS or a contractor overseeing the project on NMFS' behalf.

III.Data

OMB Number: None.

Form Number: None.

Type of Review: Regular submission.

Affected Public: Individuals or households.

Estimated Number of Respondents: 150.

Estimated Time Per Response: 10 minutes.

Estimated Total Annual Burden Hours: 50.

Estimated Total Annual Cost to Public: 0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 30, 2004.
Gwellnar Banks,
Management Analyst, Office of the Chief Information Officer.

[FR Doc. 04-15398 Filed 7-6-04; 8:45 am]

BILLING CODE 3510-22-S